NATIONAL AERONAUTICS AND SPACE ADMINISTRATION

[Notice: (10-005)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Lori Parker, National Aeronautics and Space Administration, Washington, DC 20546-0001.

FOR FURTHER INFORMATION CONTACT: Requests for additional information or copies of the information collection instrument(s) and instructions should be directed to Lori Parker, NASA Clearance Officer, NASA Headquarters, 300 E Street, SW., JE0000, Washington, DC 20546, (202) 358-1351, Lori.Parker-1@nasa.gov.

SUPPLEMENTARY INFORMATION:

I. Abstract

The subject information collection involves the collection of data to support the development of the National Aviation Safety Strategic Plan (NASSP) with strategies aligned with current and projected aviation safety issues. A major step in the development of the NASSP is the collection and analysis of worldwide safety issues.

II. Method of Collection

Aviation stakeholders will be contacted via electronic means and asked to respond by filling out a questionnaire. They will have the option of printing it and filling it out manually and then returning it via traditional mail, filling it out electronically and returning via email, or visiting a Web site where the questionnaire can be filled out online. The information will be collected by the JPDO Aviation Safety Working Group's Strategic Planning Subcommittee and used to determine the efficacy of the Aviation Safety Strategic Plan.

III. Data

Title: Biennial NextGen Safety Issue Survey.

OMB Number: 2700-XXXX.

Type of Review: New Collection.

Affected Public: Business or other for-profit.

Estimated Number of Respondents: 100.

Estimated Number of Responses per Respondent: 1.

Estimated Time per Response: 2 hours.

Estimated Total Annual Burden Hours: 200 hours.

Estimated Annual Cost for Respondents: $0.00.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA Clearance Officer.

[FR Doc. 2010-1257 Filed 1-22-10; 8:45 am]

BILLING CODE P